DEPARTMENT OF COMMERCE

National Oceanic and Atmospheric Administration

RIN 0648-XC050

Marine Mammals; File No. 17236

AGENCY: National Marine Fisheries Service (NMFS), National Oceanic and Atmospheric Administration (NOAA), Commerce.

ACTION: Notice; receipt of application.

SUMMARY: Notice is hereby given that Robert A. Garrott, Ecology Department, Montana State University, 310 Lewis Hall, Bozeman, MT, 59717, has applied in due form for a permit to conduct research on Weddell seals (Leptonychotes weddellii).

DATES: Written, telefaxed, or email comments must be received on or before July 2, 2012.

ADDRESSES: The application and related documents are available for review by selecting “Records Open for Public Comment” from the Features box on the Applications and Permits for Protected Species (APPS) home page, https://apps.nmfs.noaa.gov, and then selecting File No. 17236 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Colette Cairns or Tammy Adams, (301) 427-8401.

SUPPLEMENTARY INFORMATION: The subject permit is requested under the authority of the Marine Mammal Protection Act of 1972, as amended (MMPA; 16 U.S.C. 1361 et seq.), and the regulations governing the taking and importing of marine mammals (50 CFR part 216).

The purpose of the research is to evaluate how environmental variability and individual heterogeneity affects the population dynamics of Weddell seals in the Antarctic. The applicant proposes to continue long-term studies of the Weddell seal population in the Erebus Bay, McMurdo Sound, Ross Sea and White Island areas of Antarctica. Up to 425 adults and 700 pups would be captured annually. Animals would be weighed, tissued sampled, flipper tagged, and released. A subset of 200 pups annually would have a small temperature logging tag attached. The applicant requests authorization to opportunistically collect, import, and export Weddell seal parts and carcasses. Annually up to 2,000 Weddell, 50 crabeater (Lobodon carcinophagus), and 50 leopard (Hydrurga leptonyx) seals may be incidentally disturbed as a result of the research activities. The applicant requests authorization for up to 4 (2 adults and 2 pups) Weddell seal research-related mortalities annually. The permit would be valid for five years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 23, 2012.
Tammy C. Adams,
Acting Chief, Permits and Conservation Division, Office of Protected Resources, National Marine Fisheries Service.

[FR Doc. 2012-13113 Filed 5-30-12; 8:45 am]

BILLING CODE 3510-22-P